DEPARTMENT OF ENERGY

Federal Energy Regulatory Commission

[Project No. P-2411-030]

Eagle Creek Schoolfield Hydro, LLC, City of Danville; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2411-030.

c. Date Filed: July 29, 2022.

d. Applicant: Eagle Creek Schoolfield, LLC and City of Danville.

e. Name of Project: Schoolfield Hydroelectric Project (Schoolfield Project).

f. Location: The project is located on the Dan River at approximately river mile 60.1 in the county of Pittsylvania, near the City of Danville, Virginia. The project does not occupy any federal land.

g. Filed Pursuant to: Federal Power Act, 16 U.S.C. 791(a)-825(r).

h. Applicant Contacts: Ms. Joyce Foster, Director, Licensing and Compliance Eagle Creek Renewable Energy, LLC, 7315 Wisconsin Avenue, Suite 1100W, Bethesda, MD 20814; Phone at (804) 338-5110 or email at Joyce.Foster@eaglecreekre.co; Ms. Jody Smet, Vice President, Regulatory Affairs, Eagle Creek Renewable Energy, LLC, 7315 Wisconsin Ave., Suite 1100W, Bethesda, MD 20814; Phone at (240) 482-2700 or email at jody.smet@eaglecreekre.com; and Mr. W Clarke Whitfield, Junior, City Attorney, City of Danville, 427 Patton Street, Room 421, Danville, VA 24541; Phone at (434) 799-5122 or email at whitfcc@danvilleva.gov.

i. FERC Contact: Erin Stockschlaeder at (202) 502-8107, or Erin.stockschlaeder@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 27, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Schoolfield Project (P-2411-030).

m. This application is not ready for environmental analysis at this time.

n. The Schoolfield Project consists of the following existing facilities: (1) a 910-foot-long, 25-foot-high curved ogee-type concrete spillway dam with a crest elevation of 434.7 feet National Geodetic Vertical Datum of 1929 (NGVD29) and topped with 3-foot-high wooden flashboards; (2) a reservoir having a surface area of 287 acres and a gross storage capacity of approximately 1,952 acre-feet at the project's normal maximum water surface elevation of 437.7 feet NGVD29; (3) a 224-foot-long by 35-foot-wide brick and concrete powerhouse that contains three identical 1.5-megawatt (MW) generating units (each generating unit is connected to two identical propeller-type turbine units with rated capacity of 1,006 horsepower each) for a total installed capacity of 4.5 MW; (4) a 72-foot-long headwall between the dam and the powerhouse with six low-level sluice gates and a non-operating fish ladder; (5) a tailrace that is approximately 160 feet long and 220 feet wide and separated from main river flows by a concrete wall; (6) a substation; (7) generator leads and a step-up transformer; and (8) appurtenant facilities.

The Schoolfield Project is operated in run-of-river mode, which may be suspended during reservoir drawdown and refilling for inspection of the City of Danville, Virginia's water supply intakes, which occurs on an as needed basis. During normal operation, an instantaneous minimum flow of 300 cubic feet per second is released downstream. The minimum flow is typically provided as part of generation flows. Average annual generation at the project was 15,220 megawatt-hours from 2017-2020.

o. A copy of the application can be viewed on the Commission's website at http://www.ferc.gov, using the “eLibrary” link. Enter the docket number, excluding the last three digits in the docket number field, to access the document (P-2411). For assistance, contact FERC at FERCOnlineSupport@ferc.gov, or call toll-free, (866) 208-3676 or (202) 502-8659 (TTY).

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Deficiency Letter (if necessary)— September 2022

Request Additional Information—September 2022

Issue Acceptance Letter—December 2022

Issue Scoping Document 1 for comments—January 2023

Request Additional Information (if necessary)—February 2023

Issue Scoping Document 2—March 2023

Issue Notice of Ready for Environmental Analysis—April 2023

Final amendments to the application must be filed with the Commission no later than 30 days from the issuance date of the notice of ready for environmental analysis.

Dated: August 8, 2022.
Kimberly D. Bose,
Secretary.

[FR Doc. 2022-17367 Filed 8-11-22; 8:45 am]

BILLING CODE 6717-01-P